DEPARTMENT OF HOMELAND SECURITY

[Docket Number—DHS-2021-0037]

Agency Information Collection Activities: Office of the Immigration Detention Ombudsman Intake Form

AGENCY: Department of Homeland Security (DHS).

ACTION: 60-Day Notice and request for comments; Office of the Immigration Detention Ombudsman Intake Form, 1601-0030, Extension without change.

SUMMARY: The Department of Homeland Security, will submit the following Information Collection Request (ICR) to the Office of Management and Budget (OMB) for review and clearance in accordance with the Paperwork Reduction Act of 1995.

DATES: Comments are encouraged and will be accepted until October 12, 2021.

ADDRESSES: You may submit comments, identified by docket number Docket # DHS-2021-0037 at:

○ Federal rulemaking Portal: http://www.regulations.gov. Please follow the instructions for submitting comments.

Instructions: All submissions received must include the agency name and docket number Docket # DHS-2021-0037. All comments received will be posted without change to http://www.regulations.gov, including any personal information provided.

Docket: For access to the docket to read background documents or comments received, go to http://www.regulations.gov.

SUPPLEMENTARY INFORMATION: The Department of Homeland Security's (DHS) Office of the Immigration Detention Ombudsman (OIDO) is an independent office tasked with resolving individual complaints from or about individuals in immigration detention regarding the potential violation of immigration detention standards or other potential misconduct. OIDO was established by Congress (Sec. 106 of the Consolidated Appropriations Act, 2020, Pub. L. 116-93). Its intake form is intended for use by individuals wishing to submit a complaint to OIDO. Information collected will provide the office with details about the allegations the submitter seeks to have OIDO address.

The information collected on this form will allow OIDO to identify: (1) The individual submitting the complaint and their contact information; (2) the detained individual who is the subject of the complaint; (3) the government-owned or contracted facility where the individual is or was detained and for how long; and (4) relevant details about the complaint. All of this information will be used by OIDO to investigate, resolve, and if appropriate, provide redress.

The use of this form is the most efficient means for collecting and processing the required data. Initially, collection will be via a paper form, which may be obtained from OIDO staff conducting routine visits in detention facilities. The form will also be available for download from the OIDO website. The PDF form will be able to be completed online, printed out, and submitted to OIDO by email, mail, or fax, or handed to a staff member in a detention facility.

After approval of the form described in this supporting statement, an electronic version will be developed so that submitters may complete and file via the OIDO website. The paper version will continue to be available; it will be noted on the form that using the paper method may result in processing delays for OIDO to complete data entry.

This information collection does not have an impact on small businesses or other small entities.

If this information is not collected, OIDO will not be able to accomplish its Congressional mandate to provide assistance to individuals who may be affected by misconduct, excessive force, or other violations of law or detention standards.

The assurance of confidentiality provided to the respondents for this information collection is based on the forthcoming Privacy Impact Assessment for the Immigration Detention Ombudsman Case Management System (ID-CMS) (Summer 2021). Additionally, the information collected is covered by DHS/ALL-020 Department of Homeland Security Internal Affairs, April 28, 2014, 79 FR 23361 and DHS/ALL-025 Law Enforcement Authority in Support of the Protection of Property Owned, Occupied, or Secured by the Department of Homeland Security System of Records, June 14, 2017, 82 FR 27274.

This information collection was constructed in compliance with regulations and authorities under the purview of the DHS Privacy Office, DHS OCIO, DHS Records Management, and OMB regulations regarding data collection, use, sharing, storage, information security, and retrieval of information.

There are no changes to the information being collected and there is no change to the estimated burden associated with this collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Office of the Immigration Detention Ombudsman Intake Form.

OMB Number: 1601-0030.

Frequency: Every 3 years.

Affected Public: Members of the Public or non-government organizations.

Number of Respondents: 30,000.

Estimated Time per Respondent: 1.

Total Burden Hours: 30,000.

Robert Dorr,
Acting Executive Director, Business Management Directorate.

[FR Doc. 2021-17002 Filed 8-9-21; 8:45 am]

BILLING CODE 9112-FL-P